FEDERAL MARITIME COMMISSION

Sunshine Act Meeting

AGENCY HOLDING THE MEETING: Federal Maritime Commission.

TIME AND DATE: December 12, 2012—10:00 a.m.

PLACE: 800 North Capitol Street NW., First Floor Hearing Room, Washington, DC.

STATUS: The meeting will be held in Open Session.

Matters To Be Considered

1. Discussion of Licensing, Financial Responsibility Requirements, and General Duties for Ocean Transportation Intermediaries.

2. Staff Briefing and Discussion on Use of Alternative Dispute Resolution in Enforcement Proceedings.

3. Docket No. 11-22: Non-Vessel-Operating Common Carrier Negotiated Rate Arrangements; Tariff Filing Exemption.

CONTACT PERSON FOR MORE INFORMATION: Karen V. Gregory, Secretary, (202) 523-5725.

Rachel E. Dickon,
Assistant Secretary.

[FR Doc. 2012-29747 Filed 12-5-12; 4:15 pm]

BILLING CODE 6730-01-P